DEPARTMENT OF ENERGY

Federal Energy Regulatory Commission

Combined Notice of Filings #1

March 8, 2006.

Take notice that the Commission received the following electric rate filings.

Docket Numbers: ER06-274-001.

Applicants: Southwestern Public Service Company.

Description: Southwestern Public Service Co. submits a compliance filing pursuant to FERC's January 31, 2006. Suspension Order re: filing rates within 30 days to correct the clerical and program errors, etc.

Filed Date: March 2, 2006.

Accession Number: 20060306-0118.

Comment Date: 5 p.m. Eastern Time on Thursday, March 23, 2006.

Docket Numbers: ER06-315-001.

Applicants: American Electric Power Service Corp.

Description: American Electric Power Service Corp., agent for Ohio Power Co. et al. submits & requests a second revision to the Interconnection & Local Delivery Agreement made pursuant to AEP's OATT with Buckey Power.

Filed Date: February 17, 2006.

Accession Number: 20060223-0051.

Comment Date: 5 p.m. Eastern Time on Friday, March 15, 2006.

Docket Numbers: ER06-475-001.

Applicants: Colorado Power Partners.

Description: Colorado Power Partners submits Substitute Third Revised Sheet 1, revising Third Revised Sheet 1, to be effective January 12, 2006.

Filed Date: March 3, 2006.

Accession Number: 20060307-0207.

Comment Date: 5 p.m. Eastern Time on Friday, March 24, 2006.

Docket Numbers: ER06-693-000.

Applicants: Pacific Gas & Electric Company.

Description: Pacific Gas and Electric Co. submits an executed Letter of Agreement dated March 31, 1998 with California Department of Water Resources—State Water Project in accordance with section 205(c) of the Federal Power Act, etc.

Filed Date: March 2, 2006.

Accession Number: 20060307-0055.

Comment Date: 5 p.m. Eastern Time on Thursday, March 23, 2006.

Docket Numbers: ER06-694-000.

Applicants: Niagara Mohawk Power Corporation.

Description: Niagara Mohawk Power Corp. dba National Grid submits an Original Service Agreement 914 with Steel Winds, LLC under the New York Independent System Operator, LLC, FERC Electric Tariff, Original Volume 1.

Filed Date: March 2, 2006.

Accession Number: 20060307-0038.

Comment Date: 5 p.m. Eastern Time on Thursday, March 23, 2006.

Docket Numbers: ER06-695-000.

Applicants: Niagara Mohawk Power Corporation.

Description: Niagara Mohawk Power Corp., dba National Grid submits an Original Service Agreement 915 with Modern Innovative Energy LLC under the New York Independent System Operator LLC's open access tariff, etc.

Filed Date: March 2, 2006.

Accession Number: 20060307-0045.

Comment Date: 5 p.m. Eastern Time on Thursday, March 23, 2006.

Docket Numbers: ER06-696-000.

Applicants: Niagara Mohawk Power Corporation.

Description: Niagara Mohawk Power Corp. dba National Grid submits an Original Service Agreement 916 w/Innovative Energy Systems, Inc. under the New York Independent System Operator, LLC's FERC Electric Tariff, Original Volume 1.

Filed Date: March 2, 2006.

Accession Number: 20060307-0043.

Comment Date: 5 p.m. Eastern Time on Thursday, March 23, 2006.

Docket Numbers: ER06-698-000.

Applicants: First Commodities Ltd.

Description: First Commodities Ltd.'s submits a petition for acceptance of its initial rate schedule (FERC Electric Rate Schedule 1), and granting certain waivers and blanket authorities.

Filed Date: March 2, 2006.

Accession Number: 20060307-0041.

Comment Date: 5 p.m. Eastern Time on Thursday, March 23, 2006.

Docket Numbers: ER96-2495-028; ER97-4143-016; ER97-1238-023; ER98-2075-022; ER98-542-018; EL04-131-000.

Applicants: AEP Power Marketing Inc.; AEP Service Corporation; CSW Power Marketing, Inc.; CSW Energy Services, Inc.; Central and South West Services, Inc.

Description: American Electric Power Service Corp., on behalf of AEP Power Marketing Inc. et al. submits revised market tariff sheets in accordance with Order 614 to remove the Market Behavior Rules pursuant to Commission's February 16, 2006 order.

Filed Date: March 3, 2006.

Accession Number: 20060307-0084.

Comment Date: 5 p.m. Eastern Time on Friday, March 24, 2006.

Docket Numbers: ER97-886-009.

Applicants: Brooklyn Navy Yard Cogeneration Partners, LP

Description: Brooklyn Navy Yard Cogeneration Partners LP states that neither itself nor its affiliates can engage in any prohibited affiliate abuse or reciprocal dealing in response to FERC's letter dated February 1, 2006.

Filed Date: March 3, 2006.

Accession Number: 20060307-0083.

Comment Date: 5 p.m. Eastern Time on Friday, March 24, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3688 Filed 3-14-06; 8:45 am]

BILLING CODE 6717-01-P